ENVIRONMENTAL PROTECTION AGENCY

40 CFR Part 52

[Docket No. EPA-R02-OAR-2008-0004; FRL-8576-6]

Approval and Promulgation of Implementation Plans; Reasonably Available Control Technology for Oxides of Nitrogen for a Specific Source in the State of New Jersey

AGENCY: Environmental Protection Agency (EPA).

ACTION: Final rule.

SUMMARY: The Environmental Protection Agency (EPA) is announcing approval of a revision to the State Implementation Plan (SIP) for ozone submitted by the State of New Jersey. The SIP revision consists of a source-specific reasonably available control technology (RACT) determination for controlling oxides of nitrogen (NOX ) from stationary internal combustion engines operated by the Trigen-Trenton Energy Co., L.P. This action approves the source-specific RACT determination that was made by New Jersey in accordance with provisions of its regulation to help meet the national ambient air quality standard for ozone. The intended effect of this action is to approve source-specific emission limitations required by the Clean Air Act.

DATES: Effective Date: This rule will become effective on August 15, 2008.

ADDRESSES: EPA has established a docket for this action under Docket ID No. EPA-R02-OAR-2008-0004. All documents in the docket are listed on the http://www.regulations.gov Web site. Although listed in the index, some information is not publicly available, e.g., CBI or other information whose disclosure is restricted by statute. Certain other material, such as copyrighted material, is not placed on the Internet and will be publicly available only in hard copy form. Publicly available docket materials are available either electronically through http://www.regulations.gov or in hard copy at the Environmental Protection Agency, Region II Office, Air Programs Branch, 290 Broadway, 25th Floor, New York, New York 10007-1866. This Docket Facility is open from 8:30 a.m. to 4:30 p.m., Monday through Friday, excluding legal holidays. The Docket telephone number is 212-637-4249.

FOR FURTHER INFORMATION CONTACT: Gavin Lau, Air Programs Branch, Environmental Protection Agency, 290 Broadway, 25th Floor, New York, New York 10278, (212) 637-3708, e-mail: Lau.Gavin@epa.gov.

SUPPLEMENTARY INFORMATION:

I. What Action Is EPA Taking Today?

EPA is approving a revision to the New Jersey Department of Environmental Protection's (New Jersey's) ozone State Implementation Plan (SIP) submitted on August 7, 2007. This SIP revision relates to New Jersey's NOX RACT determination for the Trigen-Trenton Energy Co. L.P. (Trigen) facility located in Trenton, Mercer County. The facility contains two stationary reciprocating internal combustion engines vented through a common stack. The reader is referred to the proposed rulemaking on this action (March 6, 2008, 73 FR 12041) for additional details.

II. What Comments Were Received and What Is EPA's Response?

No comments were received.

III. Conclusion

EPA has determined that New Jersey's SIP revision for New Jersey's NOX RACT determination for Trigen's internal combustion engines is consistent with New Jersey's RACT regulation and EPA's guidance. EPA has determined that the NOX emission limits identified in New Jersey's Conditions of Approval document represent RACT for Trigen's internal combustion engines. More specifically, EPA approves New Jersey's Conditions of Approval document which includes an alternative emissions limit for Trigen's engines while operating on dual fuel and low sulfur distillate oil. While burning dual fuel, Trigen's engines will comply with the NOX RACT limit of 2.3 g/bhp-hr. Under conditions specified for burning low sulfur distillate oil, emissions of NOX from the engines shall not exceed 12 g/bhp-hr. The use of low sulfur distillate oil is limited to 200 hours per year per engine during startup, shutdown, injector cleanout, major component break-in and during emergencies. Trigen is also limited to using low sulfur distillate oil for only one engine at any time, excluding times of natural gas curtailment or emergency. As a point of clarification, EPA's approval of the alternative emission limit applies only to Trigen's internal combustion engines and does not include boilers as stated in the proposed rule.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by September 15, 2008. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxide, Ozone, Reporting and recordkeeping requirements, Volatile organic compounds.

Dated: May 28, 2008.
Alan J. Steinberg,
Regional Administrator, Region 2.

Part 52, chapter I, title 40 of the Code of Federal Regulations is amended as follows:

PART 52—[AMENDED]

1. The authority citation for part 52 continues to read as follows:

Authority: 42 U.S.C. 7401 et seq.

2. Section 52.1570 is amended by adding new paragraph (c)(85) to read as follows:

§ 52.1570 Identification of plan.

* * * * *

(c) * * *

(85) Revisions to the New Jersey State Implementation Plan (SIP) for ozone concerning the control of nitrogen oxides from Trigen-Trenton Energy Co., L.P., dated August 7, 2007 submitted by the New Jersey State Department of Environmental Protection (NJDEP).

(i) Incorporation by reference:

(A) a letter from Lisa P. Jackson, Commissioner, New Jersey Department of Environmental Protection, addressed to Alan J. Steinberg, USEPA, dated August 7, 2007, and Attachment 1 to the letter, titled “Conditions of Approval, Alternative Maximum Emission Rate for NOX for Two (2) Cooper Bessemer Distillate Oil or Dual Fuel Fired 4-Stroke Diesel Internal Combustion Engines,” Trigen-Trenton Energy Company L.P., Trenton, NJ. APC Plant ID No. 61015, approved January 11, 2007.

* * * * *

[FR Doc. E8-16122 Filed 7-15-08; 8:45 am]

BILLING CODE 6560-50-P